DEPARTMENT OF HOMELAND SECURITY

U.S. Customs and Border Protection

Notice of Cancellation of Customs Broker Licenses

AGENCY: U.S. Customs and Border Protection, U.S. Department of Homeland Security.

ACTION: General notice.

SUMMARY: Pursuant to section 641 of the Tariff Act of 1930, as amended, (19 U.S.C. 1641) and the Customs Regulations (19 CFR 111.51), the following Customs broker licenses and all associated permits are cancelled without prejudice.

Name | License No. | Issuing port
David Cheng | 09053 | New York.
Christa Ciaccio | 09229 | New York.
James Cheer | 09666 | Los Angeles.
Robert H. Chamberlin | 06146 | Los Angeles.
Lily N. Tsong | 13325 | Los Angeles.
Gary M. Teller | 11855 | Atlanta.
Edgar Cook | 03771 | Portland, Maine.
Alberto del Cerro | 04324 | Miami.
Philip T. Hill | 13123 | Miami.
Vision Companies, Inc | 23103 | Los Angeles.
Vantage International Forwarding, Ltd | 92003 | Los Angeles.

Dated: May 20, 2009.
Daniel Baldwin,
Assistant Commissioner, Office of International Trade.

[FR Doc. E9-12427 Filed 5-27-09; 8:45 am]

BILLING CODE 9111-14-P